NUCLEAR REGULATORY COMMISSION

[Docket No. 30-39264; NRC-2023-0032]

Qal-Tek Associates LLC; Mayfield, Idaho Waste Handling and Temporary Storage Facility

AGENCY: Nuclear Regulatory Commission.

ACTION: Environmental assessment and finding of no significant impact; issuance.

SUMMARY: The U.S. Nuclear Regulatory Commission (NRC) is issuing a finding of no significant impact (FONSI) and accompanying environmental assessment (EA) for an application from Qal-Tek Associates LLC (QTA) to operate a waste handling and temporary storage facility near Mayfield, Idaho. Based on the analysis in the EA, the NRC staff has concluded that there would be no significant impacts to environmental resources from QTA's proposed activities at the proposed facility and, therefore, a FONSI is appropriate.

DATES: The EA and FONSI referenced in this document are available on February 6, 2023.

ADDRESSES: Please refer to Docket ID NRC-2023-0032 when contacting the NRC about the availability of information regarding this document. You may obtain publicly available information related to this document using any of the following methods:

• Federal Rulemaking website: Go to https://www.regulations.gov and search for Docket ID NRC-2023-0032. Address questions about Docket IDs in Regulations.gov to Stacy Schumann; telephone: 301-415-0624; email: Stacy.Schumann@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to PDR.Resource@nrc.gov. For the convenience of the reader, instructions about obtaining materials referenced in this document are provided in the “Availability of Documents” section.

• NRC's PDR: You may examine and purchase copies of public documents, by appointment, at the NRC's PDR, Room P1 B35, One White Flint North, 11555 Rockville Pike, Rockville, Maryland 20852. To make an appointment to visit the PDR, please send an email to PDR.Resource@nrc.gov or call 1-800-397-4209 or 301-415-4737, between 8 a.m. and 4 p.m. eastern time (ET), Monday through Friday, except Federal holidays.

FOR FURTHER INFORMATION CONTACT: James Park, Office of Nuclear Material Safety and Safeguards, U.S. Nuclear Regulatory Commission, Washington, DC 20555-0001, telephone: 301-415-6954, email: James.Park@nrc.gov.

SUPPLEMENTARY INFORMATION:

I. Introduction

The NRC is considering a license application from QTA, for operation of a waste handling and temporary storage facility, to be located near Mayfield, Idaho. By this application, QTA is seeking NRC authorization to receive, process, verify, package, temporarily store, and then ship low-level radioactive waste (LLRW) offsite for final disposal and also sealed sources and devices for offsite recycling or disposal as LLRW. As required by section 51.21 of title 10 of the Code of Federal Regulations (10 CFR), “Criteria for and identification of licensing and regulatory actions requiring environmental assessments,” the NRC prepared an EA that documents the NRC staff's independent evaluation of the potential environmental impacts of QTA's proposed activities at the Mayfield facility. Based on the analysis in the EA, the NRC staff has concluded that there would be no significant impacts to environmental resources from QTA's proposed activities and, therefore, a FONSI is appropriate.

II. Summary of Environmental Assessment

Description of the Proposed Action

QTA proposes to operate a waste processing and temporary storage facility near Mayfield, Idaho, where LLRW sent from NRC or Agreement State licensees, either by road or rail, would be received, verified, processed, and potentially stored for up to 180 days prior to being shipped offsite for final dispositioning. QTA anticipates that most of its handling operations would be performed with the waste materials in their original transportation packaging. However, in some situations, QTA expects to process and repackage waste when certain individual bulk waste packages do not meet the intended disposal facility's waste acceptance criteria or when it is advantageous to combine wastes, when allowed, into a larger package prior to shipment for offsite disposal. QTA also anticipates receiving packages containing Class A through Class C [as defined in 10 CFR 61.55(a)(2)(i) through (iii)] low-activity sealed sources and devices for consolidation and appropriate offsite disposition (i.e., either recycling or disposal).

The buildings that QTA would use for its proposed activities are enclosed with security fencing to restrict unauthorized access. A rail right-of-way passes through one side of one building at the site and a vehicle right-of-way runs down the adjacent side of a connected building. Access to both right-of-way passages would be controlled by motorized, lockable roll-up doors. QTA intends to replace the existing trailer offices at the site with new trailer units that would provide administrative offices and access to the buildings. QTA would also replace fencing as needed at the site, add 121.9 meters (m) [400 feet (ft)] of fencing to enclose the controlled storage areas, pour a 15.2 m by 15.2 m (50 ft by 50 ft) concrete storage pad west of the site buildings, and conduct limiting trenching for upgraded utilities. Six to eight employees would work full-time at the site, and three employees would work there part-time.

QTA anticipates receiving Class A through Class C sealed sources and devices and Class A soil, debris, and water wastes from U.S. nuclear power plants, research and accelerator facilities, and other commercial licensees as well as cleanup and decommissioning wastes from Federal cleanup projects. QTA estimates that it would receive an average of 19,272 cubic meters (25,207 cubic yards) of waste materials annually over the five-year period from 2022 to 2026, with most waste shipments coming in bulk containers (e.g., gondola railcars, intermodal containers, and large soft-sided bags). Other wastes would likely be received in 208.1-liter (55-gallon) drums. QTA estimates that the site would receive, on a monthly basis, approximately 50 waste shipments by truck and approximately 12 shipments by rail.

After QTA's verification and processing of the incoming bulk LLRW shipments and short-term onsite storage, when applicable, the wastes would be transported offsite for final disposal. Possible final disposal sites for commercially-generated LLRW are: (1) the U.S. Ecology LLRW disposal site in Richland, Washington; (2) the EnergySolutions LLRW disposal site in Clive, Utah; and (3) the Waste Control Specialists (WCS) LLRW disposal site in Andrews County, Texas (TX). Disposal at a non-LLRW disposal site (e.g., the U.S. Ecology-Idaho (USEI) Resource Conservation and Recovery Act Subtitle C landfill in Grand View, Idaho, would require prior NRC approval on a case-by-case basis for each disposal action in accordance with the NRC's alternate disposal request review process. Wastes received from the U.S. Department of Energy (DOE) would be disposed only at locations authorized to receive DOE wastes for final disposal (e.g., the WCS site in Andrews County, TX). Prior to shipment, QTA would ensure that the wastes transported offsite for final disposal meet the waste acceptance criteria for the disposal site. QTA estimates that approximately 85 truck shipments per month would transport LLRW to disposal sites over a 5-year period of 2022 to 2026.

For sealed sources and devices arriving at QTA's facility in packages or containers, QTA would either approve these for offsite disposal or accept them for sorting and dispositioning. QTA would store sealed sources and devices in a dedicated onsite Controlled Storage Area. Sealed sources and devices would be transferred either to USEI for final disposal, if the devices are exempt under 10 CFR parts 30 or 40, or to an NRC- or Agreement State-licensed LLRW disposal site or recycler if they are classified as Class A through Class C LLRW.

Need for the Proposed Action

The proposed action would allow QTA to use the proposed Mayfield facility as a LLRW verification and temporary storage facility prior to the dispositioning of these wastes at sites authorized to accept these types of materials. Additionally, QTA expects that its proposed facility would serve as a waste characterization facility for licensees that want to outsource waste characterization services and the dispositioning of their sealed sources.

Environmental Impacts of the Proposed Action

The NRC staff has assessed the potential environmental impacts from QTA's proposed waste handling and temporary storage activities at the Mayfield site. The NRC staff assessed the impacts of the proposed action on land use; historical and cultural resources; visual and scenic resources; climatology, meteorology, and air quality; geology and soils; water resources; ecological resources; socioeconomics; noise; traffic and transportation; public and occupational health and safety; and waste management. The NRC staff determined that impacts to these environmental resource areas would be minimal. With respect to ecological resources, the NRC staff determined that the proposed action would have no effect on listed endangered or threatened species or their critical habitat. The NRC staff also determined that no historical properties would be affected by the undertaking (i.e., QTA's proposed action). Additionally, the NRC staff concluded the environmental consequences from a postulated terrorist attack at the proposed Mayfield facility would not result in a significant impact to the environment.

Environmental Impacts of the Alternatives to the Proposed Action

As an alternative to the proposed action, the staff considered denial of the proposed action (i.e., the “no-action” alternative). Under the no-action alternative, the NRC would not grant the requested license to QTA and the current operations at the Mayfield site would continue. USEI currently uses the site for the occasional offloading of rail tankers containing bulk liquids that arrive at the Mayfield facility. U.S. Ecology receives tanker loads of both hazardous and non-hazardous liquids for treatment and ultimate disposal at its USEI Grand View, Idaho facility. Rail tankers containing bulk liquids are pumped into awaiting tanker trucks for transportation to the landfill.

Additionally, under the no-action alternative, NRC and NRC Agreement State licensees would continue to use their existing procedures and processes for dispositioning LLRW. These procedures and processes would include the temporary onsite storage of such wastes and the testing and verification of these wastes prior to their shipment offsite for final disposal.

The NRC staff does not expect a change in environmental impacts under the no-action alternative given that disposal of LLRW in accordance with the Federal and State regulations and requirements ensure the protection of public health and safety and the environment. The NRC concluded that environmental impacts from the no-action alternative would be not significant.

Agencies and Persons Consulted

On November 17, 2022, the staff provided a copy of the draft EA to the Idaho Department of Environmental Quality for its review and comment. In its December 16, 2022, response letter, the State noted that it had no comments on the draft document.

III. Finding of No Significant Impact

Based on its review of the proposed action, in accordance with 10 CFR part 51, the NRC staff has determined that issuance of a materials license to QTA, authorizing LLRW and sealed sources and devices receipt, verification, processing and temporary storage activities at the facility site near Mayfield, Idaho, would not significantly affect the quality of the human environment. Approval of the proposed action would result in minimal ground-disturbing activities at the site, and waste receipt, handling, and processing activities would be conducted to keep occupational and radiological doses below the applicable limits in 10 CFR part 20. On the basis of the EA, the NRC finds that there are no significant environmental impacts from the proposed action, and that preparation of an environmental impact statement is not warranted. Accordingly, the NRC has determined that a FONSI is appropriate. In accordance with 10 CFR 51.32(a)(4), this FONSI incorporates the EA set forth in this notice by reference.

IV. Availability of Documents

The documents identified in the following table are available to interested persons through one or more of the following methods, as indicated.

Document | ADAMS accession No.
QTA's License Application, dated February 11, 2021 | ML23030B799.
QTA's responses to NRC Request for Additional Information (RAI), dated July 23, 2021 | ML22004A136 (Package).
QTA's RAI response, dated February 18, 2022 | ML22133A005.
QTA's Response to NRC's request for RAI clarifications, dated March 8, 2022 | ML22123A201 and ML22123A209.
NRC Staff “Guidance for the Reviews of Proposed Disposal Procedures and Transfers of Radioactive Material Under 10 CFR 20.2002 and 10 CFR 40.13(a)” | ML18296A068.
NRC's request for review and comment on Draft EA, dated November 17, 2022 | ML23011A268.
State of Idaho Department of Environmental Quality's Letter providing comments on the Draft EA, dated December 16, 2022 | ML23011A261.

Dated: January 31, 2023.
For the Nuclear Regulatory Commission.
Robert Sun,
Acting Chief, Environmental Review Materials Branch, Division of Rulemaking, Environmental, and Financial Support, Office of Nuclear Material Safety, and Safeguards.

[FR Doc. 2023-02363 Filed 2-3-23; 8:45 am]

BILLING CODE 7590-01-P